DEPARTMENT OF COMMERCE

National Oceanic and Atmospheric Administration

RIN 0648-BD77

Fisheries of the Caribbean, Gulf of Mexico, and South Atlantic; Snapper-Grouper Fishery Off the South Atlantic States; Regulatory Amendment 17

AGENCY: National Marine Fisheries Service (NMFS), National Oceanic and Atmospheric Administration (NOAA), Commerce.

ACTION: Supplemental notice of intent (NOI) to prepare a draft environmental impact statement (DEIS).

SUMMARY: NMFS, Southeast Region, in collaboration with the South Atlantic Fishery Management Council (Council), is publishing this supplemental NOI to announce that scoping meetings for Regulatory Amendment 17 to the Fishery Management Plan for the Snapper-Grouper Fishery in the South Atlantic Region (Regulatory Amendment 17) will be postponed and will be announced at a later date in the Federal Register.

FOR FURTHER INFORMATION CONTACT: Rick DeVictor, Southeast Regional Office, telephone: 727-824-5305, or email: rick.devictor@noaa.gov.

SUPPLEMENTARY INFORMATION:

Background

An NOI to prepare a DEIS for Regulatory Amendment 17 was published in the Federal Register on December 4, 2013 (78 FR 72867) and requested public comment through January 3, 2014. The NOI announced that the Council will consider alternatives to modify existing marine protected areas (MPAs) implemented through Amendment 14 to the Fishery Management Plan for the Snapper-Grouper Fishery in the South Atlantic Region (74 FR 1621, January 13, 2009) and establish new MPAs within Regulatory Amendment 17. Through these proposed actions, the Council intends to further reduce bycatch mortality of speckled hind and warsaw grouper and increase protection to their deep-water habitat.

In the NOI, NMFS announced scoping meeting dates, times, and locations that were scheduled to occur in January 2014. However, at its December 2013 meeting, the Council decided to continue development of Regulatory Amendment 17 but postpone the scoping meetings to a future date that is not yet known. The Council decided to delay the scoping meetings to allow the Council's Snapper-Grouper Advisory Panel to consider additional scientific information, such as the predicted effectiveness of the proposed MPAs and to provide MPA recommendations to the Council based on that information. In addition, the Council decided to hold public meetings on their snapper-grouper fishery visioning project before holding the Regulatory Amendment 17 scoping meetings. This would allow for an improved decision making process that incorporates the results of the Council's visioning project into the development of Regulatory Amendment 17. NMFS will announce, through a document published in the Federal Register, the exact dates, times, and locations of future scoping meetings for Regulatory Amendment 17.

Authority: 16 U.S.C. 1801 et seq.

Dated: December 11, 2013.
Sean Corson,
Acting Deputy Director, Office of Sustainable Fisheries, National Marine Fisheries Service.

[FR Doc. 2013-29852 Filed 12-16-13; 8:45 am]

BILLING CODE 3510-22-P